DEPARTMENT OF ENERGY

Federal Energy Regulatory Commission

Combined Notice of Filings #1

Take notice that the Commission received the following electric rate filings:

Docket Numbers: ER20-251-001.

Applicants: Public Service Company of Colorado.

Description: Tariff Amendment: OATT-Att O-PSCo, TBL 25-Depr & Amort-0.4.1-Amend to be effective 1/1/2020.

Filed Date: 12/12/19.

Accession Number: 20191212-5083.

Comments Due: 5 p.m. ET 1/2/20.

Docket Numbers: ER20-254-001.

Applicants: Wabash Valley Power Association, Inc., PJM Interconnection, L.L.C.

Description: Tariff Amendment: Amendment to ER20-254-000 to change req'd effective date re Wabash (OATT) to be effective 12/31/9998.

Filed Date: 12/11/19.

Accession Number: 20191211-5160.

Comments Due: 5 p.m. ET 1/2/20.

Docket Numbers: ER20-256-001.

Applicants: Wabash Valley Power Association, Inc., PJM Interconnection, L.L.C.

Description: Tariff Amendment: Amendment to ER20-256-000 to change req'd effective date re Wabash (CTOA) to be effective 12/31/9998.

Filed Date: 12/11/19.

Accession Number: 20191211-5164.

Comments Due: 5 p.m. ET 1/2/20.

Docket Numbers: ER20-568-000.

Applicants: Midcontinent Independent System Operator, Inc.

Description: § 205(d) Rate Filing: 2019-12-11_SA 3268 Astoria Substat BSSB In Out MPFCA (J493 J510) OTP NSP 1st Rev to be effective 11/26/2019.

Filed Date: 12/11/19.

Accession Number: 20191211-5132.

Comments Due: 5 p.m. ET 1/2/20.

Docket Numbers: ER20-569-000.

Applicants: Sabine Cogen, LP.

Description: Tariff Cancellation: Notice of Cancellation of Reactive Tariff to be effective 3/8/2020.

Filed Date: 12/11/19.

Accession Number: 20191211-5149.

Comments Due: 5 p.m. ET 1/2/20.

Docket Numbers: ER20-570-000.

Applicants: Southern California Edison Company.

Description: Tariff Cancellation: Cancel LGIA Desert Quartzite, LLC SA No. 209 to be effective 6/4/2019.

Filed Date: 12/12/19.

Accession Number: 20191212-5000.

Comments Due: 5 p.m. ET 1/2/20.

Docket Numbers: ER20-571-000.

Applicants: Southwest Power Pool, Inc.

Description: § 205(d) Rate Filing: 2891R6 AECC, Entergy Arkansas and MISO Attachment AO to be effective 12/10/2019.

Filed Date: 12/12/19.

Accession Number: 20191212-5003.

Comments Due: 5 p.m. ET 1/2/20.

Docket Numbers: ER20-572-000.

Applicants: Southwest Power Pool, Inc.

Description: Compliance filing: Resource Adequacy Compliance Filing in Response to Order Issued in EL19-101 to be effective 10/28/2019.

Filed Date: 12/12/19.

Accession Number: 20191212-5044.

Comments Due: 5 p.m. ET 1/2/20.

Docket Numbers: ER20-573-000.

Applicants: GridLiance Heartland LLC.

Description: § 205(d) Rate Filing: GLH Certificate of Concurrence Filing to be effective 12/12/2019.

Filed Date: 12/12/19.

Accession Number: 20191212-5045.

Comments Due: 5 p.m. ET 1/2/20.

Docket Numbers: ER20-574-000.

Applicants: Midcontinent Independent System Operator, Inc., GridLiance Heartland LLC.

Description: § 205(d) Rate Filing: 2019-12-12_SA 3389 GridLiance Heartland-TVA TIA to be effective 12/31/9998.

Filed Date: 12/12/19.

Accession Number: 20191212-5059.

Comments Due: 5 p.m. ET 1/2/20.

Docket Numbers: ER20-575-000.

Applicants: Alabama Power Company.

Description: § 205(d) Rate Filing: Cool Springs Solar (Cool Springs Solar & Battery) LGIA Filing to be effective 11/27/2019.

Filed Date: 12/12/19.

Accession Number: 20191212-5071.

Comments Due: 5 p.m. ET 1/2/20.

Docket Numbers: ER20-576-000.

Applicants: ReEnergy Fort Fairfield LLC.

Description: Tariff Cancellation: Notice of Cancellation to be effective 12/13/2019.

Filed Date: 12/12/19.

Accession Number: 20191212-5085.

Comments Due: 5 p.m. ET 1/2/20.

Docket Numbers: ER20-577-000.

Applicants: ReEnergy Ashland LLC.

Description: Tariff Cancellation: Notice of Cancellation to be effective 12/13/2019.

Filed Date: 12/12/19.

Accession Number: 20191212-5086.

Comments Due: 5 p.m. ET 1/2/20.

Docket Numbers: ER20-579-000.

Applicants: Lyonsdale Biomass, LLC.

Description: Tariff Cancellation: Notice of Cancellation to be effective 12/13/2019.

Filed Date: 12/12/19.

Accession Number: 20191212-5091.

Comments Due: 5 p.m. ET 1/2/20.

Docket Numbers: ER20-580-000.

Applicants: Cambria CoGen Company.

Description: Tariff Cancellation: Notice of Termination of Cambria CoGen FERC Electric Tariff No. 1 to be effective 12/12/2019.

Filed Date: 12/12/19.

Accession Number: 20191212-5102.

Comments Due: 5 p.m. ET 1/2/20.

Docket Numbers: ER20-581-000.

Applicants: California Independent System Operator Corporation.

Description: § 205(d) Rate Filing: 2019-12-12 EIM Implementation Agreement with Tacoma Power to be effective 4/1/2020.

Filed Date: 12/12/19.

Accession Number: 20191212-5104.

Comments Due: 5 p.m. ET 1/2/20.

Docket Numbers: ER20-582-000.

Applicants: PJM Interconnection, L.L.C.

Description: § 205(d) Rate Filing: Third Revised Service Agreement No. 1127; Queue No. AD2-113/AD2-114 to be effective 11/12/2019.

Filed Date: 12/12/19.

Accession Number: 20191212-5106.

Comments Due: 5 p.m. ET 1/2/20.

Docket Numbers: ER20-583-000.

Applicants: American Transmission Company LLC.

Description: Baseline eTariff Filing: Construction Management Agreement to be effective 12/13/2019.

Filed Date: 12/12/19.

Accession Number: 20191212-5114.

Comments Due: 5 p.m. ET 1/2/20.

Docket Numbers: ER20-584-000.

Applicants: PJM Interconnection, L.L.C.

Description: Compliance filing: Compliance Filing Pursuant to October 17, 2019 Order re Minimum Run-Time Req to be effective 12/3/2019.

Filed Date: 12/12/19.

Accession Number: 20191212-5125.

Comments Due: 5 p.m. ET 1/2/20.

Docket Numbers: ER20-585-000.

Applicants: ISO New England Inc., NSTAR Electric Company.

Description: § 205(d) Rate Filing: ISO-NE and NSTAR; TSA-EVERSOURCE-15 to be effective 10/1/2019.

Filed Date: 12/12/19.

Accession Number: 20191212-5154.

Comments Due: 5 p.m. ET 1/2/20.

Docket Numbers: ER20-586-000.

Applicants: ISO New England Inc., New England Power Company.

Description: Tariff Cancellation: ISO-NE and NEP; Notice of Cancellation of 1st Rev. LGIA-ISONE/NEP-17-01 to be effective 11/25/2019.

Filed Date: 12/12/19.

Accession Number: 20191212-5162.

Comments Due: 5 p.m. ET 1/2/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 12, 2019.
Nathaniel J. Davis, Sr.,
Deputy Secretary.

[FR Doc. 2019-27226 Filed 12-17-19; 8:45 am]

BILLING CODE 6717-01-P